DEPARTMENT OF COMMERCE

National Oceanic and Atmospheric Administration

RIN 0648-XP53

Endangered and Threatened Species; Take of Anadromous Fish

AGENCY: National Marine Fisheries Service (NMFS), National Oceanic and Atmospheric Administration (NOAA), Commerce.

ACTION: Receipt of applications for scientific research permits; request for comments.

SUMMARY: Notice is hereby given that NMFS has received applications for scientific research from the Fishery Foundation of California (FFC) in Elk Grove, CA (13675), and from the California Department of Water Resources (CDWR) in Sacramento, CA (14240). These permits would affect the federally endangered Sacramento River winter-run Chinook salmon and the threatened Central Valley spring-run Chinook salmon Evolutionarily Significant Units (ESUs), the federally threatened Central Valley steelhead Distinct Population Segment (DPS), and the federally threatened southern DPS of North American green sturgeon (North American green sturgeon). This document serves to notify the public of the availability of the permit applications for review and comment.

DATES: Written comments on the permit applications must be received no later than 5 p.m. Pacific Standard Time on July 6, 2009.

ADDRESSES: Comments submitted by e-mail must be sent to the following address: FRNpermitsSAC@noaa.gov. The applications and related documents are available for review by appointment, for permits 13675 and 14240: Protected Resources Division, NMFS, 650 Capitol Mall, Suite 8-300, Sacramento, CA 95814 (ph: 916-930-3600, fax: 916-930-3629).

FOR FURTHER INFORMATION CONTACT: Shirley Witalis at phone number 916-930-3606, or e-mail: Shirley.Witalis@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222 226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally-listed endangered Sacramento River winter-run Chinook salmon (Oncorhynchus tshawytscha) ESU, threatened Central Valley spring-run Chinook salmon (O. tshawytscha) ESU, threatened Central Valley steelhead (O. mykiss) DPS, threatened Central California Coast steelhead (O. mykiss), and North American green sturgeon (Acipenser medirostris).

Applications Received

FFC requests a 5-year permit (13791) for take of juvenile Sacramento River winter-run Chinook salmon, Central Valley spring-run Chinook salmon, Central Valley steelhead, and juvenile North American green sturgeon associated with conducting surveys measuring fish response to initial and successional habitat conditions at a restored conservation bank site on the Sacramento River in the Central Valley, California. FFC requests authorization for estimated annual non-lethal take of 60 natural and 60 listed hatchery juvenile Sacramento River winter-run Chinook salmon, 575 natural and 550 listed hatchery juvenile Central Valley spring-run Chinook salmon, 60 natural and 58 listed hatchery juvenile Central Valley steelhead, and 2 natural juvenile DPS green sturgeon for five consecutive years resulting from capture (by trap/fyke net and beach seine), handling, species identification, enumerating, measuring, weighing, and releasing of fish.

CDWR requests a five-year permit (14092) for take of threatened Central Valley spring-run Chinook salmon, threatened Central Valley steelhead, and threatened North American green sturgeon in the lower Feather River, associated with monitoring and research activities conducted in the Feather River basin, Central Valley, California. CDWR requests authorization for an estimated annual non-lethal take of 250 natural and 250 listed hatchery spring-run Chinook salmon adults, and 1,250 natural and 1,250 listed hatchery spring-run Chinook salmon juveniles, and an estimated annual non-intentional lethal take of 11 natural and 11 listed hatchery spring-run adults, and 25 natural and 50 listed hatchery spring-run Chinook salmon juveniles; an estimated annual non-lethal take of 510 natural and 760 listed hatchery steelhead adults and 750 natural and 1,250 listed hatchery steelhead juveniles, and an estimated annual non-intentional lethal take of 10 natural and 25 listed hatchery steelhead adults, and 25 natural and 50 listed hatchery steelhead juveniles; and an estimated annual non-lethal take of 60 natural green sturgeon adults and 35 natural green sturgeon juveniles, and an estimated annual non-intentional lethal take of 2 natural green sturgeon adults and 1 natural green sturgeon juvenile for five consecutive years resulting from the capture (by boat electrofisher, angling, trot line, gill/trammel net, beach seine), handling, anesthetizing, enumerating, measuring, tagging (pittag, radio tag, acoustic telemetry tag, Hallprint floy- tag), tissue (scale, otolith) sampling and analysis, releasing, and non-intentional mortality of fish, in association with the Federal Energy Regulatory Commission (FERC) Project No. 2100 Settlement Agreement for the re-licensing of the Oroville- Thermalito Complex Project:

Project 1 researches wild steelhead site-fidelity and growth through mark-recapture methods. Research activities associated with Project 1 include the capture of juvenile steelhead by boat electrofishing or seine block nets, tagging adult steelhead with radio and acoustic telemetry tags for tracking, recapture of tagged steelhead to calculate individual growth rates and to estimate population survival rates, taking length-weight measurements for calculating condition, and collecting scales and otoliths from adult steelhead to provide life history information on the Feather River population.

Project 2 researches characteristics of spring-run Chinook salmon holding pools and spawning habitats, spring-run migration timing, and spring-run salmon holding survival to spawning. Research activities associated with Project 2 include the capture of spring-run by angling, the tagging of spring-run with radio, acoustic tags and Hallprint tags, and the tracking of spring-run to understand movement and holding patterns of spring-run migration within the Feather River.

Project 3 researches impacts to green sturgeon in the lower Feather River from operational effects of Oroville Dam on river flow, temperature and green sturgeon habitat. Research activities associated with Project 3 include the capture of green sturgeon by fyke trap, gill/trammel net, trot line, and boat electrofisher; acoustic-tagging and tracking of green sturgeon to evaluate migration patterns, residence times, migration barriers; and identifying potential spawning grounds for green surgeon egg and larval surveys.

Dated: May 29, 2009.
Angela Somma,
Chief, Endangered Species Division, Office of Protected Resources, National Marine Fisheries Service.

[FR Doc. E9-12946 Filed 6-2-09; 8:45 am]

BILLING CODE 3510-22-S